DEPARTMENT OF TRANSPORTATION

Pipeline and Hazardous Materials Safety Administration

49 CFR Parts 192 and 195

[Docket No. PHMSA-2008-0334.]

RIN 2137-AE42

Pipeline Safety: Incorporation by Reference Update: American Petroleum Institute (API) Standards 5L and 1104

AGENCY: Pipeline and Hazardous Materials Safety Administration (PHMSA), Department of Transportation (DOT).

ACTION: Direct final rule.

SUMMARY: This direct final rule incorporates by reference the most recent editions of API Specification 5L “Specification for Line Pipe” and API 1104 “Welding of Pipelines and Related Facilities.” The purpose of this update is to enable pipeline operators to utilize current technology, materials, and practices to help maintain a high level of safety relative to their pipeline operations. PHMSA is not eliminating the use of the current referenced standards but simply allowing the additional use of these new standards. PHMSA may in the future propose to eliminate the incorporation of the existing referenced standards.

DATES: Effective Date: This rule is effective April 14, 2009 without further action, unless adverse comment is received by June 15, 2009. If adverse comment is received, PHMSA will publish a timely withdrawal of the rule in the Federal Register.

Incorporation by Reference Date: The incorporation by reference of certain publications listed in this rule is approved by the Director of the Federal Register as of April 14, 2009.

ADDRESSES: Comments should reference DOT Docket ID Number PHMSA-2008-0334 and may be submitted by any of the following methods:

• E-Gov Web: http://www.regulations.gov. This web site allows the public to enter comments on any Federal Register notice issued by any agency. Follow the online instructions for submitting comments.

• Mail: Docket Management System: U.S. Department of Transportation, 1200 New Jersey Avenue, SE., West Building Ground Floor, Room W12-140, Washington, DC 20590-0001.

• Hand Delivery or Courier: DOT Docket Management System, West Building Ground Floor, Room W12-140, 1200 New Jersey Avenue, SE., between 9 a.m. and 5 p.m. ET, Monday through Friday, except Federal holidays.

• Fax: 202-493-2251.

Instructions: Identify the docket ID, PHMSA 2008-0334, at the beginning of your comments. If you submit your comments by mail, submit two copies. If you wish to receive confirmation that PHMSA received your comments, include a self-addressed stamped postcard. Internet users may submit comments at http://www.regulations.gov.

Note: All comments received will be posted without edits to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov or the street address listed above. Follow the online instructions for accessing the dockets.

FOR FURTHER INFORMATION CONTACT: For information about the technical standards contact Mike Israni, (202) 366-4571, or by e-mail at mike.israni@dot.gov. For all other information contact John Gale by phone at (202) 366-4046 or by e-mail at john.gale@dot.gov.

SUPPLEMENTARY INFORMATION:

I. Background

This direct final rule adopts the most recent editions of two consensus technical standards, the American Petroleum Institute (API) 5L (44th edition) and API 1104 (20th edition). Through use of these consensus standards, pipeline operators will be able to use current technology, materials, and practices. The incorporation of the most recent editions of these standards improves clarity, consistency, and accuracy, reduces unnecessary burdens on the regulated community and will provide, at minimum, an equivalent level of safety. PHMSA is not eliminating the use of the current referenced standards but simply allowing the additional use of these new standards. PHMSA may in the future propose to eliminate the incorporation of the existing referenced standards.

Standards Incorporated by Reference

The National Technology Transfer and Advancement Act of 1995 (Pub. L. 104-113) directs Federal agencies to use voluntary consensus standards in lieu of government-written standards whenever possible. Voluntary consensus standards are standards developed or adopted by voluntary bodies that develop, establish, or coordinate technical standards using agreed upon procedures.

PHMSA's Office of Pipeline Safety participates in more than 25 national voluntary consensus standards committees. PHMSA's policy is to adopt voluntary consensus standards when they are applicable to pipeline design, construction, maintenance, inspection, and repair. PHMSA has the ultimate responsibility to ensure the best interests of public safety are being served. PHMSA reviews and approves for incorporation by reference updated versions based on this directive. When PHMSA believes some aspect of the standard does not meet this directive, it will not incorporate the new edition, or that part of the standard that it believes is contradictory with the directive. In recent years, PHMSA has adopted dozens of new and revised voluntary consensus standards into its gas pipeline (49 CFR Part 192) regulations, its liquefied natural gas (LNG) (49 CFR Part 193) regulations, and its hazardous liquid pipeline (49 CFR Part 195) regulations.

Parts 192, 193, and 195 incorporate by reference all or parts of more than 60 standards and specifications developed and published by technical organizations, including the American Petroleum Institute, American Gas Association, American Society of Civil Engineers, American Society of Mechanical Engineers, American Society for Testing and Materials, Manufacturers Standardization Society of the Valve and Fittings Industry, National Fire Protection Association, Plastics Pipe Institute, and Pipeline Research Council International. These organizations update and revise their published standards every 3 to 5 years to reflect modern technology and best technical practices. PHMSA has reviewed the revised voluntary consensus standards being incorporated in this final rule.

New Editions of Standards

The following new editions of currently referenced standards are being incorporated by reference (IBR) in part 192 and 195. These new editions refine and clarify existing material in the standard and generally do not introduce new topics.

American Petroleum Institute (API):

• ANSI/API Spec 5L/ISO 3183 “Specification for Line Pipe” (44th edition, 2007) Referenced by 49 CFR 192.55(e); 192.112; 192.113; Item I, Appendix B to part 192; 195.106(b)(1)(i); 195.106(e)

Amendments to API 5L in the 44th edition include:

1. High default toughness criteria for PSL 2 pipe previously not specified, ensuring a higher toughness baseline for most critical product in the field.

2. Restrictive dimensional limits (including wall thickness, diameter, out-of-round, pipe end geometric irregularities) ensuring better field fit up and welding.

3. More comprehensive description of ultrasonic and radiographic methods and documentation testing providing a more consistent weld and body inspection and pipe traceability is improved through key inspection step.

4. New sour service and offshore requirements including restrictive documentation, processing, chemical composition, inspection and mechanical property controls ensuring well suited product applied to these critical applications.

• API 1104 “Welding of Pipelines and Related Facilities” (20th edition, errata, 2008) Referenced in 49 CFR 192.227(a); 192.229(c)(1); and 192.241(c); Item II, Appendix B; 195.222; 195.228(b) and 195.214(a)

The 20th edition of API 1104 includes a new Appendix A. Appendix A describes the method to determine the maximum height and length of a weld imperfection that can remain in a girth weld and not be a threat to the integrity of a pipeline. Appendix A in the 19th edition is an old standard that was developed in the 1970s and at that time X 60 material was the strongest pipe available. Now X 80 is common place.

By letters dated September 26, 2008 and December 4, 2008, EVRAZ, Inc. and California Steel Industries, Inc., petitioned PHMSA to allow the immediate use of the 44th edition of API 5L. The petitioners explained that the failure to allow the use of the newer standard would adversely impact the metallurgy and tolerances of the pipe manufactured in their plants and that the impact was industry-wide. Due to the lead time of ordering steel pipe for major infrastructure projects, the petitioners urgently requested that PHMSA allow the use of the newer standard in order to avoid adverse impacts on their customers' projects involving thousands of tons of pipe and hundreds of workers.

This direct final rule is issued under the procedures set forth in 49 CFR 190.339. That provision allows for incorporation by reference of industry standards by direct final rule. If an adverse comment or notice of intent to file an adverse comment is received, a timely document will be published in the Federal Register withdrawing this direct final rule in whole or in part. Interested parties should refer to 49 CFR 190.339(c) for discussion of what constitutes an adverse comment.

II. Regulatory Analyses and Notices

Statutory/Legal Authority for Rulemaking

This final rule is published under the authority of 49 U.S.C. 60101 et seq. Section 60102(a) of 49 U.S.C. authorizes the Secretary of Transportation to prescribe regulations related to pipeline safety.

Executive Order 12866 and DOT Policies and Procedures

This direct final rule is not a significant regulatory action under section 3(f) of Executive Order 12866 (58 FR 51735) and, therefore, was not subject to review by the Office of Management and Budget. This direct final rule is not significant under the Regulatory Policies and Procedures of the Department of Transportation (44 FR 11034).

In this final rule we are updating references to standards that are incorporated in the pipeline safety regulations. These updates will enhance safety while reducing the compliance burden on the regulated industry. We invite public comment on any impacts of these amendments.

Executive Order 13132

PHMSA has analyzed the direct final rule according to Executive Order 13132 (64 FR 43255, August 10, 1999). The direct final rule does not have a substantial direct effect on the States, the relationship between the national government and the States, or the distribution of power and responsibilities among the various levels of government. The direct final rule does not impose substantial direct compliance costs on State and local governments. This direct final rule does not preempt state law for intrastate pipelines. Therefore, the consultation and funding requirements of Executive Order 13132 does not apply.

Regulatory Flexibility Act

Under the Regulatory Flexibility Act (5 U.S.C. 601 et seq.), PHMSA must consider whether rulemaking actions would have a significant economic impact on a substantial number of small entities. This direct final rule ensures that operators are able to use the most current editions of technical standards incorporated by reference. PHMSA concludes this rule does not have a significant negative economic impact on any small entity. Based on the facts available about the expected impact of this rulemaking, I certify, under Section 605 of the Regulatory Flexibility Act (5 U.S.C. 605) that this rulemaking will not have a significant economic impact on a substantial number of small entities.

Executive Order 13175

PHMSA has analyzed this direct final rule according to Executive Order 13175, “Consultation and Coordination with Indian Tribal Governments.” Because the direct final rule does not significantly or uniquely affect the communities of the Indian tribal governments or impose substantial direct compliance costs, the funding and consultation requirements of Executive Order 13175 do not apply.

Paperwork Reduction Act

This direct final rule does not impose any new information collection requirements.

Unfunded Mandates Reform Act of 1995

This direct final rule does not impose unfunded mandates under the Unfunded Mandates Reform Act of 1995. It does not result in costs of $100 million or more to either State, local, or tribal governments, in the aggregate, or to the private sector, and is least burdensome alternative that achieves the objective of the rulemaking.

National Environmental Policy Act

The National Environmental Policy Act of 1969 (NEPA), as amended (42 U.S.C. 4321-4347), requires Federal agencies to consider the consequences of major federal actions and prepare a detailed statement on any action significantly affecting the quality of the human environment. Since these new standards provide, at minimum, an equivalent level of protection to the currently referenced standards, it is unlikely that the adoption of these standards will have any significant impacts on the environment. We welcome comment on this conclusion.

Executive Order 13211

Transporting gas impacts the nation's available energy supply. However, this direct final rule is not a “significant energy action” under Executive Order 13211. It also is not a significant regulatory action under Executive Order 12866 and is not likely to have a significant adverse effect on the supply, distribution, or use of energy. Further, the Administrator of the Office of Information and Regulatory Affairs is not likely to identify this direct final rule as a significant energy action.

Privacy Act Statement

Anyone may search the electronic form of all comments received for any of our dockets. You may review DOT's complete Privacy Act Statement in the Federal Register published on April 11, 2000 (65 FR 19477) or you may visit http://dms.dot.gov.

Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 192

Pipeline safety, reporting, and recordkeeping requirements.

49 CFR Part 195

Ammonia, Carbon dioxide, Incorporation by reference, Petroleum, Pipeline safety, and Reporting and recordkeeping requirements.

In consideration of the foregoing, PHMSA amends 49 CFR parts 192 and 195 as follows:

PART 192—TRANSPORTATION OF NATURAL AND OTHER GAS BY PIPELINE: MINIMUM FEDERAL SAFETY STANDARDS

1. The authority citation for part 192 continues to read as follows:

Authority: 49 U.S.C. and 5103, 60102, 60104, 60108, 60109, 60110, 60113, 60116, and 60118; and 49 CFR 1.53.

2. In § 192.7 paragraph (c)(2) the documents incorporated by reference under B. American Petroleum Institute (API) entries (1) and (5) are revised to read as follows:

§ 192.7 What documents are incorporated by reference partly or wholly in this part?

* * * * *

(c) * * *

(2) Documents incorporated by reference.

* * * * * * *
B. American Petroleum Institute (API):
(1) ANSI/API Specification 5L/ISO 3183 “Specification for Line Pipe” (43rd edition and errata, 2004, and 44th edition, 2007) | §§ 192.55(e); 192.112; 192.113; Item I of Appendix B.
* * * * * * *
(5) API 1104 “Welding of Pipelines and Related Facilities” (19th edition 1999, including errata October 31, 2001; and 20th edition 2007, including errata 2008) | §§ 192.227(a); 192.229(c)(1); 192.241(c); Item II, and Appendix B.
* * * * * * *

PART 195—TRANSPORTATION OF HAZARDOUS LIQUIDS BY PIPELINE

3. The authority citation for part 195 continues to read as follows:

Authority: 49 U.S.C. and 5103, 60102, 60104, 60108, 60109, 60118; and 49 CFR 1.53.

4. In § 195.3 paragraph (c) the documents incorporated by reference under B. American Petroleum Institute (API) entries (1) and (10) are revised to read as follows:

§ 195.3 Incorporation by reference.

* * * * *

(c) * * *

* * * * * * *
B. American Petroleum Institute (API): (1) ANSI/API Specification 5L/ISO 3183 “Specification for Line Pipe” (43rd edition and errata, 2004; and 44th edition, 2007) | §§ 195.106(b)(1)(i); 195.106(e).
* * * * * * *
(10) API 1104 “Welding of Pipelines and Related Facilities” (19th edition 1999, including errata October 31, 2001; and 20th edition 2007, including errata 2008) | §§ 195.222; 195.228(b); 195.214(a).
* * * * * * *

Issued in Washington, DC, on April 6, 2009 under the authority delegated in part 1.
Cynthia Douglass,
Acting Deputy Administrator.

[FR Doc. E9-8376 Filed 4-13-09; 8:45 am]

BILLING CODE 4910-60-P